FEDERAL EMERGENCY MANAGEMENT AGENCY

[FEMA-1426-DR]

Guam; Amendment No. 3 to Notice of a Major Disaster Declaration

AGENCY: Federal Emergency Management Agency (FEMA).

ACTION: Notice.

SUMMARY: This notice amends the notice of a major disaster declaration for the Territory of Guam (FEMA-1426-DR), dated July 6, 2002, and related determinations.

EFFECTIVE DATE: August 28, 2002.

FOR FURTHER INFORMATION CONTACT: Magda Ruiz, Response and Recovery Directorate, Federal Emergency Management Agency, Washington, DC 20472, (202) 646-2705 or Magda.Ruiz@fema.gov.

SUPPLEMENTARY INFORMATION: Notice is hereby given that, in a letter dated August 28, 2002, to Joe M. Allbaugh, Director of the Federal Emergency Management Agency, the President amended the cost-sharing arrangements concerning Federal funds provided under the authority of the Robert T. Stafford Disaster Relief and Emergency Assistance Act, 42 U.S.C. 5121-5206 (Stafford Act), and the Insular Areas Act (48 U.S.C. 1469a(d), as follows:

I have determined that the damage in certain areas of the Territory of Guam resulting from Typhoon Chata'an on July 5-6, 2002, is of sufficient severity and magnitude that special conditions are warranted regarding the cost sharing arrangements concerning Federal funds provided under the Robert T. Stafford Disaster Relief and Emergency Assistance Act, 42 U.S.C. 5121-5206 (Stafford Act).

Therefore, consistent with 48 U.S.C. 1469a(d) with respect to insular areas, and with your recommendation, I amend my declaration of July 6, 2002, to authorize Federal funds for the Individual and Family Grant, Public Assistance and Hazard Mitigation Grant Programs at 90 percent of total eligible costs.

Please notify the Governor of Guam and the Federal Coordinating Officer of this amendment to my major disaster declaration.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 02-23299 Filed 9-12-02; 8:45 am]

BILLING CODE 6718-02-P